INTERNATIONAL TRADE COMMISSION

[Investigations Nos. 701-TA-455 and 731-TA-1149 (Final)]

Circular Welded Carbon Quality Steel Line Pipe From China

AGENCY: United States International Trade Commission.

ACTION: Additional scheduling date for the subject investigations.

DATES: Effective Date: December 5, 2008.

FOR FURTHER INFORMATION CONTACT: Mary Messer (202-205-3193), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective September 9, 2008, the Commission established a schedule for the conduct of the final phase of the subject investigations (73 FR 54618, September 22, 2008). Although the Department of Commerce (“Commerce”) had not yet made its preliminary less than fair value (“LTFV”) determination, the Commission, for purposes of efficiency, included the antidumping duty investigation in the schedule for the countervailing duty investigation. On November 6, 2008, Commerce issued its preliminary antidumping duty determination and postponed its final antidumping duty determination (73 FR 66012). Accordingly, the Commission is issuing the additional scheduling date with respect to the antidumping duty investigation as follows: A supplemental brief addressing only Commerce's final antidumping duty determination is due on March 31, 2009. The brief may not exceed five (5) pages in length.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: December 8, 2008.
Marilyn R. Abbott,
Secretary to the Commission.

[FR Doc. E8-29453 Filed 12-11-08; 8:45 am]

BILLING CODE 7020-02-P